DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the contact officer indicated for each individual mission below.

Asian Infrastructure Trade Mission

Istanbul, Turkey, May 19-23, 2003, Recruitment closes April 21, 2003.

FOR FURTHER INFORMATION CONTACT: Mr. Raj Dheer, U.S. Department of Commerce, telephone (202) 482-0111, or e-mail to Raj.Dheer@mail.doc.gov.

Electric Power Mission to Vietnam and Thailand

Hanoi, Ho Chi Minh City and Bangkok, June 21-25, 2003, Recruitment closes April 15, 2003.

FOR FURTHER INFORMATION CONTACT: Mr. Andrew Collier, U.S. Department of Commerce, telephone (202) 482-0680, or e-mail to Andrew_Collier@ita.doc.gov.

Manufacturing Trade Mission to Mexico

Guadalajara, Monterrey and Mexico City, June 22-28, 2003, Recruitment closes April 30, 2003.

FOR FURTHER INFORMATION CONTACT: Ms. Yvonne Jackson, U.S. Department of Commerce, telephone (202) 482-2675, or e-mail to Yvonne.Jackson@mail.doc.gov.

Food Processing and Packaging Mission to Vietnam and Thailand

Hanoi, Ho Chi Minh City and Bangkok, August 11-15, 2003, Recruitment closes June 27, 2003.

FOR FURTHER INFORMATION CONTACT: Ms. Monica McFarlane, U.S. Department of Commerce, telephone (202) 482-3364, or e-mail to Monica.McFarlane@mail.doc.gov.

Healthcare Technologies Trade Mission to the United Kingdom and Ireland

London and Dublin, September 5-19, 2003, Recruitment closes May 30, 2003.

FOR FURTHER INFORMATION CONTACT: Mr. Bill Kutson, U.S. Department of Commerce, telephone (202) 482-2839, or e-mail to William.Kutson@mail.doc.gov.

Oil and Gas Equipment and Services Mission to Kazakhstan

Astana, Atyrau and Almaty, October 2-10, 2003, Recruitment closes on June 30, 2003.

FOR FURTHER INFORMATION CONTACT: Ms. Rachel Halpern, U.S. Department of Commerce, telephone (202) 482-4423, or e-mail to Rachel.Halpern@mail.doc.gov.

Recruitment and selection of private sector participants for these trade missions will be conducted according to the Statement of Policy Governing Department of Commerce Overseas Trade Missions dated March 3, 1997.

FOR FURTHER INFORMATION CONTACT: Mr. Thomas Nisbet, U.S. Department of Commerce, telephone (202) 482-5657, or e-mail Tom_Nisbet@ita.doc.gov.

Dated: March 10, 2003.
Thomas H. Nisbet,
Director, Export Promotion Coordination, Office of Planning, Coordination and Management.

[FR Doc. 03-6134 Filed 3-13-03; 8:45 am]

BILLING CODE 3510-DR-P